DEPARTMENT OF HOMELAND SECURITY

Federal Emergency Management Agency

44 CFR Part 67

[Docket No. FEMA-B-1009]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents and others to calculate appropriate flood insurance premium rates for new buildings and the contents in those buildings.

DATES: Comments are to be submitted on or before December 29, 2008.

ADDRESSES: The corresponding preliminary Flood Insurance Rate Map (FIRM) for the proposed BFEs for each community are available for inspection at the community's map repository. The respective addresses are listed in the table below.

You may submit comments, identified by Docket No. FEMA-B-1009, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location** | * Elevation in feet (NGVD) + Elevation in feet (NAVD) # Depth in feet above ground: Existing | * Elevation in feet (NGVD) + Elevation in feet (NAVD) # Depth in feet above ground: Modified
Unincorporated Areas of Lauderdale County, Alabama
Alabama | Unincorporated Areas of Lauderdale County | Shoal Creek | BFE 520 is at a point of 1,435 feet upstream of the confluence of Shoal Creek and Indiancamp Creek | None | +520
|  |  | BFE 558 is at a point of 27,805 feet upstream of the confluence of Shoal Creek and Butler Creek | None | +558
Alabama | Unincorporated Areas of Lauderdale County | Tennessee River (Navigation Channel) | BFE 432 is at a point of 5,270 feet upstream of the intersection of the Tennessee River and O'Neal Bridge | +431 | +432
|  |  | BFE 435 is at a point of 263 feet downstream of Wilson Dam | +431 | +435
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Lauderdale County
Maps are available for inspection at 5100 Hwy 157 N, Florence, AL 35633.

Flooding source(s) | Location of referenced elevation** | * Elevation in feet (NGVD) + Elevation in feet (NAVD) # Depth in feet above ground: Effective | * Elevation in feet (NGVD) + Elevation in feet (NAVD) # Depth in feet above ground: Modified | Communities affected
Ben Hill County, Georgia, and Incorporated Areas
Turkey Creek | Just upstream of Industrial Drive | None | +315 | Unincorporated Areas of Ben Hill County.
| Approximately 270 feet downstream of Cemetery Road | None | +319
| At Cemetery Road | None | +319
| Approximately 1,520 feet downstream of Monitor Drive | None | +327
| Approximately 760 feet upstream of Sultana Drive | None | +341
| Approximately 1,150 feet upstream of Rochelle Road | None | +344
Turkey Creek Tributary No. 1 | Approximately 950 feet downstream of W. Roanoke Drive | None | +328 | Unincorporated Areas of Ben Hill County.
| Approximately 480 feet downstream of W. Roanoke Drive | None | +329
Willacoochee River | Approximately 1,880 feet downstream of Irwinville Highway | None | +324 | Unincorporated Areas of Ben Hill County.
| Approximately 1,780 feet downstream of Irwinville Highway | None | +324
| Approximately 1,280 feet downstream of Irwinville Highway | None | +325
| Approximately 480 feet downstream of Irwinville Highway | None | +326
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Ben Hill County
Maps are available for inspection at County Commissioners Office, 402-A East Pine Street, Fitzgerald, GA 31750.
Halifax County, Virginia, and Incorporated Areas
Reedy Creek | Approximately 1,400 feet downstream of Ash Avenue | None | +331 | Unincorporated Areas of Halifax County.
| At confluence with Dan River | None | +331
Rocky Branch | At confluence with Reedy Creek | None | +331 | Unincorporated Areas of Halifax County.
| Approximately 0.4 mile upstream of Eastover Road | None | +346
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Halifax County
Maps are available for inspection at Halifax County GIS Department, 134 South Main, Halifax, VA 24558.
Spokane County, Washington, and Incorporated Areas
Argonne Creek | Approximately 1,300 feet downstream of N Maringo Drive | None | +1922 | Unincorporated Areas of Spokane County.
| Approximately 600 feet upstream of N Boeing Road | None | +1987
Forker Draw | Approximately at N Progress Road | None | +2065 | Unincorporated Areas of Spokane County, City of Spokane Valley.
| Approximately 70 feet downstream of E Bigelow Gulch Road | None | +2336
* National Geodetic Vertical Datum.
+ North American Vertical Datum.
#Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Spokane Valley
Maps are available for inspection at 11707 E. Sprague Ave., Suite 106, Spokane Valley, WA 99206.
Unincorporated Areas of Spokane County
Maps are available for inspection at 808 W. Spokane Falls Blvd., Spokane, WA 99201.

(Catalog of Federal Domestic Assistance No. 97.022, “Flood Insurance.”)

Dated: September 19, 2008.
Michael K. Buckley,
Acting Assistant Administrator, Mitigation Directorate, Department of Homeland Security, Federal Emergency Management Agency.

[FR Doc. E8-22981 Filed 9-29-08; 8:45 am]

BILLING CODE 9110-12-P